DEPARTMENT OF COMMERCE

National Oceanic and Atmospheric Administration

Request for Public Comment on Interagency Marine Debris Coordinating Committee Recommendations

AGENCY: National Ocean Service, National Oceanic and Atmospheric Administration (NOAA), Department of Commerce.

ACTION: Notice of request for comments.

SUMMARY: NOAA's Marine Debris Program, on behalf of the Interagency Marine Debris Coordinating Committee (IMDCC), is soliciting public comments regarding draft recommendations to address marine debris. The IMDCC is required to submit a biennial report to Congress that includes the status of implementation of any recommendations and strategies of the Committee. These recommendations will replace the recommendations first published by the IMDCC in 2008.

DATES: Comments must be received on or before March 25, 2024, 11:59 p.m. Eastern Time (ET).

ADDRESSES: Comments may be submitted via email to yael.seid-green@noaa.gov. Instructions: All comments received are a part of the public record. All personal identifying information (name and address) voluntarily submitted by the commenter may be publicly accessible. Do not submit confidential business information or otherwise sensitive or protected information. Comments that are not related to the IMDCC recommendations, or that contain profanity, vulgarity, threats, or other inappropriate language will not be considered.

FOR FURTHER INFORMATION CONTACT: Ya'el Seid-Green, Executive Secretariat, IMDCC, Marine Debris Program; Phone 240-622-5910; Email yael.seid-green@noaa.gov or visit the IMDCC website at https://marinedebris.noaa.gov/our-work/IMDCC.

SUPPLEMENTARY INFORMATION:

Background

The Marine Debris Act establishes the IMDCC. 33 U.S.C. 1954. The IMDCC is a multi-agency body responsible for coordinating a comprehensive program of marine debris research and activities among Federal agencies, in cooperation and coordination with non-governmental organizations, industry, academia, States, Tribes, and other nations, as appropriate. Representatives meet to share information, assess and promote best management practices, and coordinate the Federal Government's efforts to address marine debris. NOAA serves as the Chairperson of the IMDCC.

Why develop the recommendations?

The IMDCC is required to submit a biennial report to Congress that includes the status of implementation of any recommendations and strategies of the Committee and an analysis of their effectiveness. 33 U.S.C. 1954(e). In its first report to Congress, in 2008, the IMDCC published recommendations for addressing marine debris. The 25 recommendations were organized into four themes and eight subthemes. The goal of the recommendations was to “guide the Federal government's strategies with respect to the problems of persistent marine debris (IMDCC 2008)”. They were “designed to be broad in scope, with the intention that federal agencies work collaboratively through the IMDCC to develop more detailed priorities and an action plan (ibid)”. The 2008 report can be accessed at https://marinedebris.noaa.gov/sites/default/files/publications-files/imdccreport_2008.pdf.

A report from the Government Accountability Office (GAO) in September 2019 (GAO-19-653) highlighted that the biennial reports did not include an analysis of the effectiveness of the IMDCC's recommendations and strategies. The GAO recommended that the IMDCC develop and implement a process to analyze the effectiveness of the recommendations and strategies, and include the results in its biennial reports.

However, it is difficult to analyze the effectiveness of the 2008 recommendations based on their scope and age. In addition, several new agencies have joined as members of the IMDCC, and the recommendations do not reflect the full scope of current IMDCC member agency activities. As a result, the IMDCC has developed an entirely new set of draft recommendations through a collaborative process. Once finalized, the new recommendations will be included in the Fiscal Year 2022-2023 IMDCC Biennial Report to Congress.

The Recommendations

The new draft recommendations attempt to identify and express what the IMDCC sees as priorities for reducing the impacts of marine debris, aligning with the purposes and policies articulated in the Marine Debris Act and based on current authorities and activities of the IMDCC member agencies. The recommendations are designed to be broad in scope and are written to maintain relevance for several years. Not all IMDCC member agencies have activities that are relevant to each recommendation. The recommendations are divided into seven categories. The number of recommendations in each category varies.

International Activities

Recommendation #1: The IMDCC member agencies should strengthen the capacity of local actors in foreign nations to prevent marine debris; mitigate waste that may contribute to marine debris; and capture, clean up, and remove waste that may contribute to marine debris and existing marine debris in the environment.

Recommendation #2: The IMDCC member agencies should participate in and support international efforts to address marine debris.

Prevention

Recommendation #1: The IMDCC member agencies should work to reduce the federal contribution of materials that may contribute to marine debris in their operations.

Recommendation #2: The IMDCC member agencies should conduct and support external efforts to prevent marine debris and mitigate waste that may contribute to marine debris, incorporating principles of environmental justice and focusing on disadvantaged communities.

Recommendation #3: The IMDCC member agencies should conduct and support efforts to prevent and mitigate abandoned, lost, or otherwise discarded fishing gear.

Capture, Clean Up, and Removal

Recommendation #1: The IMDCC member agencies should conduct and support efforts to capture, clean up, and remove waste that may contribute to marine debris and existing marine debris in the environment, incorporating principles of environmental justice and focusing on disadvantaged communities.

Outreach and Education

Recommendation #1: The IMDCC member agencies should conduct and support public awareness and education efforts to inform communities and the general public about marine debris, incorporating principles of environmental justice and focusing on disadvantaged communities.

Recommendation #2: The IMDCC member agencies should conduct and support efforts to engage members of the public in science and data collection efforts to learn about marine debris, incorporating principles of environmental justice and focusing on disadvantaged communities.

Coordination

Recommendation #1: The IMDCC member agencies should conduct and support outreach to partners to improve coordination across jurisdictions to more effectively prevent, remove, inform people about, research, and monitor marine debris.

Research and Monitoring

Recommendation #1: The IMDCC member agencies should conduct and support research to improve understanding of marine debris sources, abundance, distribution, transport, degradation, and the social, environmental, and economic impacts of marine debris.

Recommendation #2: The IMDCC member agencies should collaborate with partners on congruent and harmonized data collection, as appropriate.

Recommendation #3: The IMDCC member agencies should conduct and support efforts to develop and apply technologies (e.g., modeling or remote sensing) that support a more robust understanding of the status of marine debris, prevent marine debris, or address the impacts of marine debris.

Recommendation #4: The IMDCC member agencies should conduct and support efforts to monitor marine debris to better understand marine debris sources, fate, and transport.

Enforcement

Recommendation #1: The IMDCC member agencies, as appropriate, should issue notices of non-compliance to correct violations of federal law and either address violations through agency administrative processes or, when violations warrant, refer violations of federal law for civil or criminal enforcement action.

How Comments Will Be Addressed

NOAA's Marine Debris Program, on behalf of the IMDCC, invites comments, feedback, and recommendations on the draft recommendations. Following the comment period, the feedback provided will be reviewed and the recommendations will be updated as necessary. The final recommendations will be included in the Fiscal Year 2022-2023 IMDCC Biennial Report to Congress and in a stand-alone report. An appendix will be added to the stand-alone report describing how comments from the public comment period were incorporated into the recommendations. This report will be posted to https://marinedebris.noaa.gov/our-work/IMDCC.

The recommendations do not imply approval for any specific action, although they may inform future federal budget development. All activities included in the recommendations are subject to budgetary constraints, interagency processes, stakeholder input and other approvals, including the weighing of priorities and available resources by the Administration in formulating its annual budget and by Congress in legislating appropriations. In some cases, implementing the recommendations may require a sustained, multi-year effort by federal, state, tribal and community partners. The recommendations are not intended to, and do not, create any right or benefit, substantive or procedural, enforceable at law or in equity by any party against the United States, its departments, agencies, or entities, its officers, employees, or agents, or any other person.

Scott Lundgren,
Director, Office of Response and Restoration, National Ocean Service, National Oceanic and Atmospheric Administration.

[FR Doc. 2024-03678 Filed 2-22-24; 8:45 am]

BILLING CODE 3510-JS-P